DEPARTMENT OF COMMERCE

National Oceanic and Atmospheric Administration

RIN 0648-XN48

Fisheries of the Exclusive Economic Zone Off Alaska; Stock Assessment of Alaska Sablefish; Peer Review Meeting

AGENCY: National Marine Fisheries Service (NMFS), National Oceanic and Atmospheric Administration (NOAA), Commerce.

ACTION: Notice of peer review meeting.

SUMMARY: NMFS has requested the Center for Independent Experts (CIE) to conduct a peer review of the agency's stock assessment of Alaskan sablefish. CIE is a group affiliated with the University of Miami that provides independent peer reviews of NMFS science nationwide, including reviews of stock assessments for fish and marine mammals. The Alaska sablefish stock assessment is an area-wide model that includes the Gulf of Alaska, Bering Sea and the Aleutian Islands. The CIE review will examine whether the assessment incorporates the best available scientific information and provides a reasonable approach to understanding the population dynamics and stock status of sablefish in Alaska. The public is invited to attend and observe the presentations and discussions between the CIE panel and the NMFS scientists who collected and processed the data, and designed the underlying model.

DATES: The review will be held on March 17 through March 19, 2009, from 9 AM to 5 PM Alaska Daylight Time.

ADDRESSES: The review will be held at the NMFS Alaska Fisheries Science Center, Ted Stevens Marine Research Institute, 17109 Pt. Lena Loop Rd, Juneau, AK 99801.

FOR FURTHER INFORMATION CONTACT: Phillip Rigby, 907-789-6653.

SUPPLEMENTARY INFORMATION: The CIE panel will consist of three peer reviewers who will assess materials related to the topic, participate in a review workshop with the NMFS scientists who developed the model and the analytical approach, and produce a report. This review will be highly technical in nature and will cover mathematical details of the analytical approach. Members of the public are invited to observe, and will be provided opportunities to contribute on March 17 and 19.

The final report is due on April 23, 2009, and will consist of individual reports from each panelist and a summary report. The meeting chair will present the results of the review during the September 2009 North Pacific Fishery Management Council's Groundfish Plan Team meeting that will be announced at a later time in the Federal Register.

SPECIAL ACCOMMODATIONS

These workshops will be physically accessible to people with disabilities. Requests for sign language interpretation or other auxiliary aids should be directed to Phillip Rigby, 907-789-6653, at least 10 working days prior to the meeting date.

Dated: February 19, 2009.
James P. Burgess
Acting Director, Office of Sustainable Fisheries, National Marine Fisheries Service.

[FR Doc. E9-4022 Filed 2-24-09; 8:45 am]

BILLING CODE 3510-22-S